DEPARTMENT OF TRANSPORTATION

Federal Aviation Administration

Notice of Passenger Facility Charge (PFC) Approvals and Disapprovals

AGENCY: Federal Aviation Administration (FAA), DOT.

ACTION: Monthly Notice of PFC Approvals and Disapprovals. In April 2011, there were five applications approved. This notice also includes information on one application, approved in March 2011, inadvertently left off the March 2011 notice. Additionally, eight approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.2 9.

PFC Applications Approved

Public Agency: South Jersey Transportation Authority, Egg Harbor Township, New Jersey.

Application Number: 11-07-C-00-ACY.

Application Type: Impose and use a PFC.

PFC Level: $4.50.

Total PFC Revenue Approved in this Decision: $9,079,204.

Earliest Charge Effective Date: June 1, 2011.

Estimated Charge Expiration Date: July 1, 2014.

Class of Air Carriers Not Required to Collect PFCs: Air taxi/commercial operators—nonscheduled/on-demand air carriers filing FAA Form 1800-31 and enplaning less than 500 passengers annually.

Determination: Approved. Based on information submitted in the public agency's application, the FAA has determined that the proposed class accounts for less than 1 percent of the total annual enplanements at Atlantic City International Airport.

Brief Description of Projects Approved for Collection and Use:

Terminal apron expansion, phase 1B.

Environmental mitigation, phases V and VI.

Expand terminal building, phase 1 design.

Acquire equipment—rotating beacon tower replacement.

Install perimeter fencing.

Acquire radio equipment for emergency operations center.

Interactive employee training system.

Security cameras.

Snow removal equipment.

Update airport master plan study phases I and II.

Obstruction survey and wildlife assessment.

Decision Date: March 17, 2011.

FOR FURTHER INFORMATION CONTACT: Lori Ledebohm, Harrisburg Airports District Office, (717) 730-2835.

Public Agency: Lafayette Airport Commission, Lafayette, Louisiana.

Application Number: 11-07-C-00-LFT.

Application Type: Impose and use a PFC.

PFC Level: $4.50.

Total PFC Revenue Approved in this Decision: $1,000,000.

Earliest Charge Effective Date: May 1, 2013.

Estimated Charge Expiration Date: May 1, 2014.

Class of Air Carriers Not Required to Collect PFCs: Air taxi/commercial operators filing FAA Form 1800-31.

Determination: Approved. Based on information submitted in the public agency's application, the FAA has determined that the proposed class accounts for less than 1 percent of the total annual enplanements at Lafayette Regional Airport.

Brief Description of Projects Approved for Collection and Use:

Procurement and installation of aircraft loading bridge.

PFC development, implementation, and administration.

Decision Date: April 6, 2011.

FOR FURTHER INFORMATION CONTACT: Ilia Quinones, Louisiana/New Mexico Airports Development Office, (817) 222-5646.

Public Agency: County of Buncomb and City of Asheville, Asheville, North Carolina.

Application Number: 11-05-C-00-AVL.

Application Type: Impose and use a PFC.

PFC Level: $4.50.

Total PFC Revenue Approved in this Decision: $6,098,948.

Earliest Charge Effective Date: August 1, 2011.

Estimated Charge Expiration Date: February 1, 2018.

Class of Air Carriers Not Required to Collect PFCs: Air taxi/commercial operators.

Determination: Approved. Based on information submitted in the public agency's application, the FAA has determined that the proposed class accounts for less than 1 percent of the total annual enplanements at Asheville regional Airport.

Brief Description of Projects Approved for Collection and Use:

Landside roadway access and parking.

“A” gate terminal improvements.

Terminal roof replacement.

North general aviation area.

Preconditioned air and fixed ground power.

Airfield environmental assessment.

Wright Brothers Way extension.

Snow removal equipment.

Master plan update.

Airfield/roadway sweeper.

PFC application development.

PFC application administration.

Brief Description of Project Approved for Collection:

Runway 16/34 improvement program.

Brief Description of Project Partially Approved for Collection and Use:

Aircraft rescue and firefighting facility.

Determination: The approval of this project is limited to the minimum size facility needed to meet Part 139 requirements.

Brief Description of Disapproved Projects:

Aircraft rescue and firefighting equipment.

Determination: The proposed equipment was not required by Part 139 and, therefore, is not PFC eligible.

Glycol recovery vehicle.

Deicing vehicle.

Determination: Neither vehicle is PFC eligible.

Decision Date: April 21, 2011.

FOR FURTHER INFORMATION CONTACT: John Marshall, Atlanta Airports District Office, (404) 305-7153.

Public Agency: City of Valdosta, Georgia.

Application Number: 11-10-C-00-VLD.

Application Type: Impose and use a PFC.

PFC Level: $4.50.

Total PFC Revenue Approved in this Decision: $472,800.

Earliest Charge Effective Date: June 1, 2011.

Estimated Charge Expiration Date: October 1, 2012.

Class of Air Carriers Not Required to Collect PFCs: Air taxi/commercial operators.

Determination: Approved. Based on information submitted in the public agency's application, the FAA has determined that the proposed class accounts for less than 1 percent of the total annual enplanements at Valdosta Regional Airport.

Brief Description of Projects Approved for Collection and Use:

Airport master plan update.

Terminal ramp (design).

Rehabilitate taxiway A (design).

Groove runway (design).

Rehabilitate taxiway A.

Grooving of 1,700 feet of runway 35 and associated work.

Airfield drainage rehabilitation (design).

Airfield drainage rehabilitation.

Prepare PFC application.

Programming, design, and construction of replacement aircraft rescue and firefighting building, including sitework.

Programming of new general aviation terminal sitework, entrance road, and apron improvements.

Acquire aircraft rescue and firefighting vehicle.

Commercial terminal building improvements.

Design and construction of new general aviation terminal sitework, entrance road, and apron.

Brief Description of Withdrawn Projects:

Programming and design of obstruction clearing—phase 1 runway 17/35.

Programming of replacement air traffic control tower.

Aircraft rescue and firefighting vehicle improvements.

Design and installation of security access control systems—phase 1.

Construction of obstruction clearing—phase 1 (runway 17/35).

Design and construction of replacement air traffic control tower, including sitework.

Date of Withdrawal: April 19, 2011.

Decision Date: April 25, 2011.

FOR FURTHER INFORMATION CONTACT: Anna Guss, Atlanta Airports District Office, (404) 305-7146.

Public Agency: Massachusetts Port Authority, Boston, Massachusetts.

Application Number: 10-06-C-00-BOS.

Application Type: Impose and use a PFC.

PFC Level: $4.50.

Total PFC Revenue Approved in this Decision: $392,093,000.

Earliest Charge Effective Date: August 1, 2016.

Estimated Charge Expiration Date: December 1, 2023.

Class of Air Carriers Not Required to Collect PFCs: Nonscheduled/on-demand air carriers.

Determination: Approved. Based on information submitted in the public agency's application, the FAA has determined that the proposed class accounts for less than 1 percent of the total annual enplanements at Boston Logan International Airport.

Brief Description of Project Approved for Collection at a $4.50 PFC Level:

Development of runway safety area for runway 33L.

Brief Description of Projects Approved for Collection and Use at a $4.50 PFC Level:

Reconstruction of runway 22L.

Rehabilitation of taxiway N.

Access control to the airport operations area from terminal and ancillary buildings.

Access control data storage and server capacity enhancements.

Replacement of Fireboat Marine 1.

Terminal E gate department area modifications and baggage system upgrades.

Terminal A development.

Brief Description of Projects Partially Approved for Collection at a $4.50 PFC Level:

Airfield electrical system upgrades.

Terminal C checkpoint consolidation.

Determination: The public agency requested a PFC amount and project scope for each project above what was originally consulted without providing for new consultation on the increased amount and/or scope. Therefore, the approved amount and scope of each project is limited to the amount and scope previously provided during the consultation and public notice process.

Decision Date: April 25, 2011.

FOR FURTHER INFORMATION CONTACT: Priscilla Scott, New England Region Airports Division, (781) 238-7614.

Public Agency: Montana Aeronautics Division, Helena, Montana.

Application Number: 11-01-C-00-VVYS.

Application Type: Impose and use a PFC.

PFC Level: $4.50.

Total PFC Revenue Approved in this Decision: $277,202.

Earliest Charge Effective Date: June 1, 2011.

Estimated Charge Expiration Date: June 1, 2025.

Class of Air Carriers Not Required to Collect PFCs: Air taxi/commercial operators filing FAA Form 1800-31.

Determination: Approved. Based on information submitted in the public agency's application, the FAA has determined that the proposed class accounts for less than 1 percent of the total annual enplanements at West Yellowstone Regional Airport.

Brief Description of Projects Approved for Collection and Use:

Rehabilitate apron.

Rehabilitate runway 01/19.

Improve terminal building.

Acquire handicap passenger lift device.

Rehabilitate runway 01/19—phase 2.

Install runway vertical/visual guidance system.

Acquire aircraft rescue and firefighting vehicle.

Install perimeter fencing.

Install weather reporting equipment.

Improve terminal building.

Install weather reporting equipment.

Install enhanced taxiway markings.

Decision Date: April 28, 2011.

FOR FURTHER INFORMATION CONTACT: Dave Stelling, Helena Airports District Office, (406) 449-5257.

Amendments to PFC Approvals
Amendment No., city, state | Amendment approved date | Original approved net PFC revenue | Amended approved net PFC revenue | Original estimated charge exp. date | Amended estimated charge exp. date
01-01-C-03-LCH Lake Charles, LA | 04/06/11 | $1,377,234 | $1,877,234 | 10/01/09 | 10/01/11
01-04-C-01-EUG Eugene, OR | 04/06/11 | 3,155,267 | 2,812,313 | 01/01/04 | 01/01/04
08-04-0-01-MFE McAllen, TX* | 04/11/11 | 3,460,375 | 3,460,375 | 10/01/13 | 06/01/13
03-03-0-01-SBN South Bend, IN* | 04/15/11 | 23,898,229 | 23,898,229 | 10/01/21 | 01/01/21
06-07-C-02-GJT Grand Junction, CO | 04/18/11 | 8,330,000 | 15,857,760 | 08/01/23 | 01/01/24
01-04-C-01-CIC Chico, CA | 04/21/11 | 536,747 | 468,782 | 12/01/09 | 12/01/09
01-03-C-02-GTF Great Falls, MT | 04/21/11 | 8,501,340 | 8,826,161 | 09/01/18 | 08/01/18
04-05-C-01-ASE Aspen, CO | 04/22/11 | 2,274,162 | 2,286,161 | 06/01/09 | 11/01/09

Notes: The amendments denoted by an asterisk (*) include a change to the PFC level charged from $3.00 per enplaned passenger to $4.50 per enplaned passenger. For McAllen, TX, this change is effective on June 1, 2011. For South Bend, IN, this change is effective on July 1, 2011.

Issued in Washington, DC, on May 5, 2011.
Joe Hebert,
Manager, Financial Analysis and Passenger Facility Charge Branch.

[FR Doc. 2011-11572 Filed 5-12-11; 8:45 am]

BILLING CODE 4910-13-M